DEPARTMENT OF TRANSPORTATION

Federal Aviation Administration

Notice of Intent To Request Revision From the Office of Management and Budget of a Currently Approved Information Collection Activity, Request for Comments; Federal Aviation Administration, SWIFT Customer Satisfaction Survey

AGENCY: Federal Aviation Administration (FAA), DOT.

ACTION: Notice and request for comments.

SUMMARY: The FAA invites public comments about our intention to request the Office of Management and Budget (OMB) to approve a current information collection. This collection of information is necessary to determine how satisfied applicants are with the automated staffing solution.

DATES: Please submit comments by May 30, 2008.

FOR FURTHER INFORMATION CONTACT: Carla Mauney on (202) 267-9895, or by e-mail at: Carla.Mauney@faa.gov.

SUPPLEMENTARY INFORMATION:

Federal Aviation Administration (FAA)

Title: Federal Aviation Administration, SWIFT Customer Satisfaction Survey.

Type of Request: Extension of an approved collection.

OMB Control Number: 2120-0699.

Forms(s): There are no FAA forms associated with this collection.

Affected Public: A total of 50,000 Respondents.

Frequency: The information is collected on occasion.

Estimated Average Burden Per Response: Approximately 3 minutes per response.

Estimated Annual Burden Hours: An estimated 2,500 hours annually.

Abstract: This collection of information is necessary to determine how satisfied applicants are with the automated staffing solution. The information will enable the FAA to improve and enhance its automated staffing process.

ADDRESSES: Send comments to the FAA at the following address: Ms. Carla Mauney, Room 712, Federal Aviation Administration, IT Enterprises Business Services Division, AES-200, 800 Independence Ave., SW., Washington, DC 20591.

Comments are Invited On: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 20, 2008.
Carla Mauney,
FAA Information Collection Clearance Officer, IT Enterprises Business Services Division, AES-200.

[FR Doc. E8-6341 Filed 3-28-08; 8:45 am]

BILLING CODE 4910-13-M